DEPARTMENT OF COMMERCE

Foreign-Trade Zones Board

Foreign-Trade Zone 155—Calhoun/Victoria Counties, Texas; Authorization of Production Activity; Caterpillar, Inc. (Excavator and Frame Assembly Production); Victoria, Texas

On May 29, 2013, The Calhoun-Victoria Foreign Trade Zone, Inc., grantee of FTZ 155, submitted a notification of proposed production activity to the Foreign-Trade Zones (FTZ) Board on behalf of Caterpillar, Inc., within FTZ 155-Site 5, in Victoria, Texas.

The notification was processed in accordance with the regulations of the FTZ Board (15 CFR part 400) including notice in the Federal Register inviting public comment (78 FR 35604, 06/13/2013). The FTZ Board has determined that no further review of the activity is warranted at this time. The production activity described in the notification is authorized, subject to the FTZ Act and the Board's regulations, including Section 400.14.

Dated: September 28, 2013.
Andrew McGilvray,
Executive Secretary.

[FR Doc. 2013-24114 Filed 10-1-13; 8:45 am]

BILLING CODE 3510-DS-P